COMMISSION ON CIVIL RIGHTS

Agenda and Notice of Public Meeting of the Montana State Advisory Committee

Notice is hereby given, pursuant to the provisions of the rules and regulations of the U.S. Commission on Civil Rights (Commission), and the Federal Advisory Committee Act (FACA), that a planning and orientation meeting of the Montana Advisory Committee to the Commission will convene via teleconference at 2 p.m. (MDT) and adjourn at approximately 4 p.m. (MDT) on Wednesday, June 29, 2011. The purpose of the planning meeting is to provide ethics training and orientation to the new committee. The Committee will also be briefed on activities by the Commission, as well as other SACs in the region.

This meeting is available to the public through the following toll-free call-in number: (800) 516-9896, followed by Conference ID#: 8334. Any interested member of the public may call this number and listen to the meeting. Callers can expect to incur charges for calls they initiate over wireless lines, and the Commission will not refund any incurred charges. Callers will incur no charge for calls they initiate over land-line connections to the toll-free telephone number. For persons with hearing impairments, dial 711 for relay services and enter 1-800-516-9896 followed by the Conference ID#: 8334.

Members of the public are entitled to submit written comments; the comments must be received in the regional office by July 27, 2011. Comments may be mailed to the Rocky Mountain Regional Office, U.S. Commission on Civil Rights, 999-18th Street, Suite 1380S, Denver, CO 80202, or faxed to (303) 866-1050, or e-mailed to ebohor@usccr.gov. Persons who desire additional information may contact the Rocky Mountain Regional Office by e-mail at ebohor@usccr.gov or by phone at (303) 866-1040.

Records generated from this meeting may be inspected and reproduced at the Rocky Mountain Regional Office, as they become available, both before and after the meeting. Persons interested in the work of this advisory committee are directed to the Commission's Web site, http://www.usccr.gov, or may contact the Rocky Mountain Regional Office at the above e-mail or street address.

The meeting will be conducted pursuant to the rules and regulations of the Commission and FACA.

Dated in Washington, DC, May 19, 2011.
Peter Minarik,
Acting Chief, Regional Programs Coordination Unit.

[FR Doc. 2011-12923 Filed 5-24-11; 8:45 am]

BILLING CODE 6335-01-P